POSTAL REGULATORY COMMISSION

Sunshine Act Meeting

TIME AND DATE: July 22, 2022, at 11:00 a.m. Eastern Daylight Time.

PLACE: The meeting will take place virtually and be accessible through the Commission's website at http://www.prc.gov.

STATUS: The Postal Regulatory Commission will hold a public meeting to discuss the agenda item outlined below.

MATTERS TO BE CONSIDERED: The agenda for the Commission's July 22, 2022 meeting includes the item identified below.

PORTIONS OPEN TO THE PUBLIC: 1. Commissioners meet to discuss and vote on a Fiscal Year 2023 budget to submit to the Postal Service Governors for consideration pursuant to 39 U.S.C. 504(d).

CONTACT PERSON FOR MORE INFORMATION: David A. Trissell, General Counsel, Postal Regulatory Commission, 901 New York Avenue NW, Suite 200, Washington, DC 20268-0001, at 202-789-6820 (for agenda-related inquiries) and Erica A. Barker, Secretary of the Commission, at 202-789-6800 or erica.barker@prc.gov (for changes in date or time of the meeting, the virtual webcast, or similar matters). The Commission's website may also provide information on changes in the date or time of the meeting.

By the Commission.
Erica A. Barker,
Secretary.

[FR Doc. 2022-14324 Filed 6-30-22; 4:15 pm]

BILLING CODE 7710-FW-P